ENVIRONMENTAL PROTECTION AGENCY

[OPP-2002-0293; FRL-7278-9]

Pesticide Product; Registration Approval

AGENCY: Environmental Protection Agency (EPA).

ACTION: Notice.

SUMMARY: This notice announces Agency approval of applications to register the pesticide products containing active ingredients not included in any previously registered products pursuant to the provisions of section 3(c)(5) of the Federal Insecticide, Fungicide, and Rodenticide Act (FIFRA), as amended.

FOR FURTHER INFORMATION CONTACT: Rosemary Biancardi, Biopesticides and Pollution Prevention Division (7511C), Office of Pesticide Programs, Environmental Protection Agency, 1200 Pennsylvania Ave., NW., Washington, DC 20460-0001; telephone number: (703) 308-8145; e-mail address: biancardi.rosemary@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of This Document and Other Related Information?

1. Docket. EPA has established an official public docket for this action under docket identification (ID) number OPP-2002-0293. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.”

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Approve the Application?

The Agency approved the applications after considering all required data on risks associated with the proposed use of “dipotassium phosphate,” “dipotassium phosphonate,” “sucrose octanoate esters [(α-D-glucopyranosyl, β-D-fructofuranosyl-octanoate), mono-, di- and triesters of sucrose octanoate],” “sodium carbonate peroxyhydrate,” and “rust Puccinia thlaspeos strain woad,” and information on social, economic, and environmental benefits to be derived from use. Specifically, the Agency has considered the nature of the chemical and its pattern of use, application methods and rates, and level and extent of potential exposure. Based on these reviews, the Agency was able to make basic health and safety determinations which show that use of “dipotassium phosphate,” “dipotassium phosphonate,” “sucrose octanoate esters [(α-D-glucopyranosyl, β-D-fructofuranosyl-octanoate), mono-, di- and triesters of sucrose octanoate],” “sodium carbonate peroxyhydrate,” and “rust Puccinia thlaspeos strain woad” when used in accordance with widespread and commonly recognized practice, will not generally cause unreasonable adverse effects to the environment.

III. Approved Applications

1. EPA issued a notice, published in the Federal Register of May 10, 2000, (65 FR 30112) (FRL-6556-6), which announced that Foliar Nutrient, Inc., 320 First Ave., Cairo, GA 31728 had submitted an application to register the pesticide product, Lexx-A-Phos Fungicide, (EPA File Symbol 72499-R), containing 22.67% dipotassium phosphate and (the registered active ingredient) 20.40% dipotassium phosphonate. This product was not previously registered.

The application was approved on September 16, 2002, as Lexx-A-Phos Fungicide (EPA Registration Number 72499-1. The technical grade of the active will be used for incorporation into the end-use product Lexx-A-Phos Fungicide, which is intended to control certain fungal diseases in woody ornamentals, turfgrasses and non-bearing fruits and nut tree crops. This use is classified as a terrestrial non-food application. (D. Benmhend)

2. EPA issued a notice, published in the Federal Register of August 11, 1999 (64 FR 43701) (FRL-6095-2), which announced that AVA Chemical Ventures, L.L.C., 80 Rochester Avenue, Suite 214, Portsmouth, NH 03801, had submitted applications to register the pesticide products, Avachem Sucrose Octanoate Manufacturing Use Product [63%], a manufacturing-use product for formulation into biological insecticide end-use products (EPA File Symbol 70950-R), and Sucrose Octanoate [32.1%], a biological insecticide end-use product (EPA File Symbol 70950-E), containing sucrose octanoate (C8 fatty acid mono-, di- and triesters of sucrose octanoate and sucrose dioctanoate) (α-D-glucopyranoside, β-D-fructofuranosyl, monooctanoate and dioctanoate), which has since been designated by the Agency as sucrose octanoate esters [(α-D-glucopyranosyl, β-D-fructofuranosyl-octanoate), mono-, di- and triesters of sucrose octanoate]. These products were not previously registered.

The applications were approved on September 16, 2002, as Avachem Sucrose Octanoate Manufacturing Use Product (EPA Registration Number 70950-1) for formulating into biochemical insecticide/miticide end-use products and Avachem Sucrose Octanoate [40.0%] (EPA Registration Number 70950-2) for use as a biochemical insecticide/miticide end-use product. (D. Greenway)

3. EPA also issued a notice, published in the Federal Register of August 11, 1999 (64 FR 43701) (FRL-6095-2), which announced that BioSafe Systems, 80 Commerce St., Glastonbury, CT 06033, had submitted an application to register the pesticide product, TerraCare Granular, Algaecide, Fungicide (EPA File Symbol 70299-G), containing the active ingredient sodium percarbonate at 40% redesignated as sodium carbonate peroxyhydrate. This product was not previously registered.

The application was approved on September 20, 2002, as TerraCyte™ (EPA Registration Number 70299-3) for use as an algaecide and fungicide on ornamental plants and turf. (A. Ball)

4. EPA issued a notice, published in the Federal Register of March 8, 2002 (67 FR 10717) (FRL-6824-3), which announced that Greenville Farms, 6189 N. 1200 E., Logan, Utah 84341, had submitted an application to register the pesticide product, Woad Warrior, a herbicide (EPA File Symbol 73417-R), containing Puccinia thlaspeos “strain woad” on rust-infected pieces of dyer's woad at 100% and at least 7.6 x 10⁹ teliospores/pound of woad warrior. This product was not previously registered.

The application was approved on June 26, 2002, as Woad Warrior containing the rust Puccinia thlaspeos “strain woad” as the active ingredient. (EPA Registration Number 73417-1) for controlling dyer's woad, an invasive weed rapidly spreading in several Western states. (B. Mandula)

List of Subjects

Environmental protection, Chemicals, Pesticides and pests.

Dated: November 20, 2002.
Janet L. Andersen,
Director, Biopesticides and Pollution Prevention Division, Office of Pesticide Programs.

[FR Doc. 02-30602 Filed 12-3-02; 8:45 am]

BILLING CODE 6560-50-S